NUCLEAR REGULATORY COMMISSION

[NRC-2009-0190]

Withdrawal of Regulatory Guide

AGENCY: Nuclear Regulatory Commission.

ACTION: Withdrawal of Regulatory Guide 4.8.

FOR FURTHER INFORMATION CONTACT: Robert G. Carpenter, Regulatory Guide Development Branch, Division of Engineering, Office of Nuclear Regulatory Research, U.S. Nuclear Regulatory Commission, Washington, DC 20555-0001, telephone: 301-251-7483 or e-mail to Robert.Carpenter@nrc.gov.

SUPPLEMENTARY INFORMATION:

I. Introduction

The U.S. Nuclear Regulatory Commission (NRC or Commission) is withdrawing Regulatory Guide 4.8, “Environmental Technical Specifications for Nuclear Power Plants,” published in December 1975. Regulatory Guide 4.8 provides guidance to applicants on the preparation of proposed environmental technical specifications and includes a standard format and an identification of their principal content. The NRC is withdrawing this regulatory guide because it is no longer needed.

Regulatory Guide 4.8 was an acceptable method of meeting the requirements of Title 10 of the Code of Federal Regulations, Part 50, “Domestic Licensing of Production and Utilization Facilities,” which states that each operating license for a nuclear power plant issued by the NRC will contain such conditions and limitations as the Commission deems appropriate and necessary. Certain environmental conditions and limitations were incorporated into facility operating licenses as environmental technical specifications. Regulatory Guide 4.8 is no longer needed because environmental technical specifications are no longer used. The information is now contained in Environmental Protection Plans that generally appear in Appendix B to the operating license.

II. Further Information

The withdrawal of Regulatory Guide 4.8 does not alter any prior or existing licensing commitments based on its use. The guidance provided in this regulatory guide is no longer necessary. Regulatory guides may be withdrawn when their guidance is superseded by congressional action or no longer provides useful information.

Regulatory guides are available for inspection or downloading through the NRC's public Web site under “Regulatory Guides” in the NRC's Electronic Reading Room at http://www.nrc.gov/reading-rm/doc-collections. Regulatory guides are also available for inspection at the NRC's Public Document Room (PDR), Room O-1 F21, One White Flint North, 11555 Rockville Pike, Rockville, MD 20852-2738. The PDR's mailing address is U.S. NRC PDR, Washington, DC 20555-0001. You can reach the staff by telephone at 301-415-4737 or 800-397-4209, by fax at 301-415-3548, and by e-mail to pdr.resource@nrc.gov.

Regulatory guides are not copyrighted, and NRC approval is not required to reproduce them.

Dated at Rockville, Maryland, this 23rd day of March 2009.
For the Nuclear Regulatory Commission.
Andrea D. Valentin,
Chief, Regulatory Guide Development Branch, Division of Engineering, Office of Nuclear Regulatory Research.

[FR Doc. E9-10457 Filed 5-5-09; 8:45 am]

BILLING CODE 7590-01-P